DEPARTMENT OF HEALTH AND HUMAN SERVICES

Health Resources and Services Administration

Availability of the HRSA Preview: Cancellation of HIV/AIDS Programs, Special Projects of National Significance

AGENCY: Health Resources and Services Administration, HHS.

ACTION: Cancellation of Notice of Availability of Funds.

SUMMARY: This notice rescinds the Notice of Availability of funds in notice FR Doc. 99-21257, Part II, in the issue of Wednesday, August 18, 1999 on the following page, 45016, in column 2, last line, “Special Projects of National Significance. In the table on page 45019, in the section HIV/AIDS Programs, under “Special Projects of National Significance (SPNS).” On page 45032, in column 3, from heading “Special Projects of National Significance (SPNS)” through to bottom of this column.

Dated: May 16, 2000.
Claude Earl Fox,
Administrator.

[FR Doc. 00-12753 Filed 5-19-00; 8:45 am]

BILLING CODE 4160-15-P